DEPARTMENT OF COMMERCE

International Trade Administration

[A-570-855]

Certain Non-Frozen Apple Juice Concentrate From the People's Republic of China: Notice of Extension of Time Limit for the Preliminary Results of the First Administrative Review

AGENCY: Import Administration, International Trade Administration, Department of Commerce.

ACTION: Notice of Extension of Time Limit.

SUMMARY: The Department of Commerce is extending the time limit for the preliminary results of the first administrative review of the antidumping duty order on certain non-frozen apple juice concentrate from the People's Republic of China. The period of review is from November 23, 1999 through May 31, 2001. This extension is made pursuant to section 751(a)(3)(A) of the Tariff Act of 1930, as amended by the Uruguay Rounds Agreement Act.

DATES: February 7, 2002.

FOR FURTHER INFORMATION CONTACT: Sally Hastings or Andrew Covington, Office of AD/CVD Enforcement I, Import Administration, International Trade Administration, U.S. Department of Commerce, 14th Street and Constitution Avenue, NW, Washington, D.C. 20230; telephone numbers: (202) 482-3464 or (202) 482-3534, respectively.

SUPPLEMENTARY INFORMATION:

Applicable Statutes and Regulations

Unless otherwise indicated, all citations to the statute are references to provisions effective January 1, 1995, the effective date of the amendments made to the Tariff Act of 1930, (the Act) by the Uruguay Round Agreements Act, and all citations to the Department of Commerce's (the Department's) regulations are to 19 CFR Part 351 (2001).

Statutory Time Limits

Section 751(a)(3)(A) of the Act requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

Background

On July 23, 2001, the Department published the notice of initiation of the antidumping administrative review on certain non-frozen apple juice concentrate from the People's Republic of China (PRC) covering the period from November 23, 1999 through May 31, 2001. (See Notice of Initiation of Antidumping and Countervailing Duty Administrative Reviews and Requests for Revocation in Part, 66 FR 38252 (July 23, 2001)). The preliminary results are currently due no later than March 2, 2002.

Extension of Time Limits for Preliminary Results

Due to the number of companies and complexity of the issues, including the gathering of the surrogate value information, it is not practicable to issue the preliminary results within the originally anticipated time limit (i.e., March 2, 2002). Therefore, in accordance with section 751(a)(3)(A) of the Act, the Department is extending the time limit for the completion of preliminary results in this case 60 days, (i.e., no later than May 1, 2002).

This notice is published pursuant to sections 751(a)(1) and 777(i)(1) of the Act.

February 1, 2002.
Richard W. Moreland,
Deputy Assistant Secretary for Import Administration.

[FR Doc. 02-2992 Filed 2-6-02; 8:45 am]

BILLING CODE 3510-DS-S